ENVIRONMENTAL PROTECTION AGENCY

[EPA-HQ-OECA-2010-0367; FRL-9211-9]

Agency Information Collection Activities; Submission to OMB for Review and Approval; Comment Request; NSPS for New Residential Wood Heaters (Renewal), EPA ICR Number 1176.09, OMB Control Number 2060-0161

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before November 8, 2010.

ADDRESSES: Submit your comments, referencing docket ID number EPA-HQ-OECA-2010-0367 to (1) EPA online using http://www.regulations.gov (our preferred method), or by e-mail to docket.oeca@epa.gov, or by mail to: EPA Docket Center (EPA/DC), Environmental Protection Agency, Enforcement and Compliance Docket and Information Center, mail code 28221T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Learia Williams, Compliance Assessment and Media Programs Division, Office of Compliance, Mail Code 2223A, Environmental Protection Agency, 1200 Pennsylvania Avenue, NW., Washington, DC 20460; telephone number: (202) 564-4113; fax number: (202) 564-0050; e-mail address: williams.learia@epa.gov.

SUPPLEMENTARY INFORMATION: EPA has submitted the following ICR to OMB for review and approval according to the procedures prescribed in 5 CFR 1320.12. On June 2, 2010 (75 FR 30813), EPA sought comments on this ICR pursuant to 5 CFR 1320.8(d). EPA received no comments. Any additional comments on this ICR should be submitted to EPA and OMB within 30 days of this notice.

EPA has established a public docket for this ICR under docket ID number EPA-HQ-OECA-2010-0367, which is available for public viewing online at http://www.regulations.gov, in person viewing at the Enforcement and Compliance Docket in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1752.

Use EPA's electronic docket and comment system at http://www.regulations.gov, to submit or view public comments, access the index listing of the contents of the docket, and to access those documents, whether submitted electronically or in paper will be made available for public viewing at http://www.regulations.gov, as EPA receives them and without change, unless the comment contains copyrighted material, Confidential Business Information (CBI), or other information whose public disclosure is restricted by statute. For further information about in the docket that are available electronically. Once in the system, select “docket search,” then key in the docket ID number identified above. Please note that EPA's policy is that public comments the electronic docket, go to http://www.regulations.gov.

Title: NSPS for New Residential Wood Heaters (Renewal).

ICR Numbers: EPA ICR Number 1176.09, OMB Control Number 2060-0161.

ICR Status: This ICR is schedule to expire on December 31, 2010. Under OMB regulations, the Agency may continue to conduct or sponsor the collection of information while this submission is pending at OMB. An agency may not conduct or sponsor, and a person is not required to respond to, a collection of information unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain-EPA regulations is consolidated in 40 CFR part 9.

Abstract: The New Source Performance Standard for New Residential Wood Heaters was proposed on February 18, 1987, and promulgated on February 26, 1988. This standard applies to each wood heater either manufactured on or after July I, 1988, or sold at retail on or after July 1, 1990. Wood heaters manufactured on or after July 1, 1990, or sold at retail on or after July 1, 1992, must meet more stringent emission standards. Approximately 54 manufacturers, 875 retailers, and 5 certification laboratories are currently subject to the regulations. It is estimated that no additional sources will become subject to the standard over the next three years. Particulate Matter (PM) is the pollutant regulated under the standard.

Two features of this rulemaking are unique to the New Source Performance Standard (NSPS) program. First, these standards were negotiated by representatives of groups affected by the NSPS, including those groups which are burdened by the information collection activities. These representatives judged none of these activities unreasonable. The affected groups recommended some of these provisions as a means of promoting an efficient and smooth running certification and enforcement program. Second, these regulations established a certification program instead of the usual NSPS requirement that each affected facility demonstrated compliance through new source review and testing. Under this certification program, a single wood heater is tested to demonstrate compliance for an entire model line which could consist of thousands of stoves. The certification approach significantly reduces the compliance burden, including information collection, for the manufacturers of wood heaters. Because of the potential risks to the environment from the intentional or accidental misuse of the certification approach, there were several safeguards included, some of which entail reporting and recordkeeping.

Under this regulation, wood heater manufacturers, testing laboratories, and retailers are required to submit reports to EPA and/or to maintain records for demonstrating compliance with the NSPS.

The information supplied by the manufacturer to the Agency is used to: (1) Ensure that Best Demonstrated Technology is being applied to reduce emissions from wood heaters; (2) ensure that the wood heater tested for certification purposes is in compliance with the applicable emission standards; (3) provide assurance that interested production model heaters have emission performance characteristics similar to tested models; and (4) provide an indicator of continued compliance.

Information supplied to the Agency by testing laboratories is used to either grant or to deny laboratory accreditation, and to assist in enforcement and compliance activities. Information requested by the Agency from manufacturers is used to determine compliance with requirements that are based upon volume of production.

An agency may not conduct or sponsor, and a person is not required to respond to, a collection of information unless it displays a currently valid OMB Control Number. The OMB Control Number for EPA's regulations are list in 40 CFR part 9 and 48 CFR chapter 15, and are identified on the form and/or instrument, if applicable.

Burden Statement: The annual public reporting and recordkeeping burden for this collection of information is estimated to average 51 hours per response. Burden means the total time, effort, or financial resources expended by persons to generate, maintain, retain, or disclose or provide information to or for a Federal agency. This includes the time needed to review instructions; develop, acquire, install, and utilize technology and systems for the purpose of collecting, validating, and verifying information, processing and maintaining, information, and disclosing and providing information. All existing ways will have to adjust to comply with any previously applicable instructions and requirements that have subsequently changed; train personnel to be able to respond to a collection of information; search data sources; complete and review the collection of information; and transmit or otherwise disclose the information.

Respondents/Affected Entities: New residential wood heaters.

Estimated Number of Respondents: 934.

Frequency of Response: On occasion.

Estimated Total Annual Hour Burden: 9,729.

Estimated Total Annual Cost: $2,260,853, which includes $912,853 in labor costs, $1,345,500 in capital/startup costs, and $2,500 in operation and maintenance (O&M) costs.

Changes in the Estimates: There is no increase in the number of affected facilities or the number of responses compared to the previous ICR. There is however, an increase in the estimated labor burden hours of one hour, as currently identified in the OMB Inventory of Approved Burdens, due to rounding of the calculations. This increase is not due to any program changes. We also updated the labor rates, which resulted in an increase in labor cost.

Dated: October 4, 2010.
John Moses,
Director, Collection Strategies Division.

[FR Doc. 2010-25428 Filed 10-7-10; 8:45 am]

BILLING CODE 6560-50-P